DEPARTMENT OF DEFENSE

Department of the Air Force

US Air Force Scientific Advisory Board Notice of Meeting

AGENCY: Department of the Air Force, US Air Force Scientific Advisory Board.

ACTION: Meeting Notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board (SAB) meeting will take place on Wednesday, Thursday and Friday, June 23rd-June 25th, 2010 at the Arnold and Mabel Beckman Conference Center, 100 Academy, Irvine, CA 92617. The meeting on Wednesday, June 23rd will be from 8 a.m.-2:30 p.m., the meeting on Thursday, June 24th will be from 9 a.m.-3:45 p.m., and the meeting on Friday, June 25th will be from 8 a.m.-11 a.m.

The purpose of this meeting will be to conduct the SAB quarterly meeting and to reach a consensus and vote on the findings for the FY10 studies directed by the SECAF. The results will be briefed to USAF senior leadership during the last two days of the meeting. This year's studies were: “Test Range Security”, “The Future of Launch Vehicle Systems for the US Air Force”, “Operating Next-Generation Unmanned Aircraft Systems for Irregular Warfare”, and “Next Generation Electronic Warfare”.

Pursuant to 5 U.S.C. 552b, as amended, and 41 CFR 102-3.155, the Administrative Assistant of the Air Force, in consultation with the Office of the Air Force General Counsel, has determined in writing that the public interest requires that all sessions of the United States Air Force Scientific Advisory Board meeting be closed to the public because they will be concerned with classified information and matters covered by sections 5 U.S.C. 552b(c)(1) and (4).

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Anthony M. Mitchell, 301-981-7135, United States Air Force Scientific Advisory Board, 1602 California Avenue, Suite #251, Andrews AFB, MD 20762, anthonym.mitchell@pentagon.af.mil.

Bao-Anh Trinh,
Air Force Federal Register Liaison Officer, YA-3.

[FR Doc. 2010-13789 Filed 6-8-10; 8:45 am]

BILLING CODE 5001-10-P